DEPARTMENT OF ENERGY

Federal Energy Regulatory Commission

Combined Notice of Filings #1

June 15, 2006.

Take notice that the Commission received the following exempt wholesale generator filings:

Docket Numbers: EG06-62-000.

Applicants: Flat Rock Windpower II LLC.

Description: Flat Rock Windpower II, LLC submits its notice of self-certification of exempt wholesale generator status pursuant to 18 CFR Section 366.7.

Filed Date: 6/12/2006.

Accession Number: 20060614-0197.

Comment Date: 5 p.m. Eastern Time on Monday, July 3, 2006.

Take notice that the Commission received the following electric rate filings:

Docket Numbers: ER01-1305-012.

Applicants: Westar Generating, Inc.

Description: Westar Generating Inc submits its compliance filing in accordance with Article IV, Informational Filings of the Settlement Agreement.

Filed Date: 6/12/2006.

Accession Number: 20060614-0199.

Comment Date: 5 p.m. Eastern Time on Monday, July 3, 2006.

Docket Numbers: ER02-2330-042.

Applicants: ISO New England Inc.

Description: ISO New England Inc submits its fifteenth quarterly status report in compliance with FERC's 9/20/02 Order.

Filed Date: 6/12/2006.

Accession Number: 20060614-0200.

Comment Date: 5 p.m. Eastern Time on Monday, July 3, 2006.

Docket Numbers: ER03-563-059; EL04-102-015.

Applicants: ISO New England Inc.

Description: ISO New England Inc submits a revised eighth compliance report pursuant to the Commission's 6/2/04 Order.

Filed Date: 6/12/2006.

Accession Number: 20060615-0114.

Comment Date: 5 p.m. Eastern Time on Monday, July 3, 2006.

Docket Numbers: ER03-845-002.

Applicants: Pinpoint Power, LLC.

Description: PinPoint Power, LLC submits its Triennial Updated Market Analysis in compliance with Commission's 6/12/03 Order.

Filed Date: 6/12/2006.

Accession Number: 20060614-0196.

Comment Date: 5 p.m. Eastern Time on Monday, July 3, 2006.

Docket Numbers: ER04-230-025.

Applicants: New York Independent System Operator, Inc.

Description: New York Independent System Operator, Inc submits its compliance filing of the accepted effective date to implement fifteen minute scheduling pursuant to the Commission's 10/25/05 letter order.

Filed Date: 6/13/2006.

Accession Number: 20060614-0203.

Comment Date: 5 p.m. Eastern Time on Wednesday, July 5, 2006.

Docket Numbers: ER04-691-075; EL04-104-067.

Applicants: Midwest Independent Transmission System Operator, Inc.

Description: Midwest ISO submits a supplement to its 3/27/06 compliance filing regarding the calculation and refund of Marginal Losses Surplus under the Midwest ISO's OAT&EM Tariffs.

Filed Date: 6/8/2006.

Accession Number: 20060614-0198.

Comment Date: 5 p.m. Eastern Time on Thursday, June 29, 2006.

Docket Numbers: ER05-719-003.

Applicants: Entergy Services Inc.

Description: Entergy Services, Inc on behalf of Entergy Arkansas, Inc submits its compliance Refund Report pursuant to Commission's 10/21/05 Order.

Filed Date: 6/12/2006.

Accession Number: 20060614-0195.

Comment Date: 5 p.m. Eastern Time on Monday, July 3, 2006.

Docket Numbers: ER05-1452-003.

Applicants: Duke Power Company, LLC.

Description: Duke Power Co LLC submits replacement pages to its Affected System Operating Agreement reflecting Duke Electric Transmission's name change.

Filed Date: 6/13/2006.

Accession Number: 20060615-0122.

Comment Date: 5 p.m. Eastern Time on Wednesday, July 5, 2006.

Docket Numbers: ER06-451-004; ER06-641-001.

Applicants: Southwest Power Pool, Inc.

Description: Southwest Power Pool, Inc submits revisions to several provisions of its Tariff related to the incorporation of the executed external market monitor services agreement pursuant to FERC's 4/14/06 Order.

Filed Date: 6/13/2006.

Accession Number: 20060615-0116.

Comment Date: 5 p.m. Eastern Time on Wednesday, July 5, 2006.

Docket Numbers: ER06-800-001.

Applicants: Midwest Independent Transmission System Operator, Inc.; FirstEnergy Service Company.

Description: Midwest Independent Transmission System Operator, Inc and FirstEnergy Service Co on behalf of American Transmission Systems Inc submits revisions to its Attachment O of its Third Revised Volume No. 1 Tariff.

Filed Date: 6/13/2006.

Accession Number: 20060615-0118.

Comment Date: 5 p.m. Eastern Time on Wednesday, July 5, 2006.

Docket Numbers: ER06-971-001.

Applicants: Exelon Business Services Company.

Description: Exelon Business Services Co submits a revised tariff sheet reflecting the effective date for the cancellation notice filed 5/8/06.

Filed Date: 6/12/2006.

Accession Number: 20060615-0113.

Comment Date: 5 p.m. Eastern Time on Tuesday, June 20, 2006.

Docket Numbers: ER06-972-001.

Applicants: Thornwood Management Company, LLC.

Description: Thornwood Management Co, LLC submits an amendment of its petition for acceptance of initial tariff waivers and blanket authority application.

Filed Date: 6/13/2006.

Accession Number: 20060615-0117.

Comment Date: 5 p.m. Eastern Time on Wednesday, July 5, 2006.

Docket Numbers: ER06-1079-001.

Applicants: American Electric Power Service Corporation; Indiana Michigan Power Company.

Description: Indiana Michigan Power Co submits Original Sheet 19 to its FERC Rate Schedule 102.

Filed Date: 6/13/2006.

Accession Number: 20060614-0201.

Comment Date: 5 p.m. Eastern Time on Wednesday, July 5, 2006.

Docket Numbers: ER06-1125-000.

Applicants: Avista Corporation.

Description: Avista Corp submits First Revised Sheets 6 et al. to its FERC Rate Schedule 323, Revised Non-Conforming Long-Term Service Agreement with NorthWestern Corp.

Filed Date: 6/13/2006.

Accession Number: 20060614-0202.

Comment Date: 5 p.m. Eastern Time on Wednesday, July 5, 2006.

Docket Numbers: ER06-1128-000.

Applicants: Mankato Energy Center, LLC.

Description: Mankato Energy Center, LLC submits its FERC Rate Schedule No. 2, effective 7/14/06.

Filed Date: 6/14/2006.

Accession Number: 20060615-0115.

Comment Date: 5 p.m. Eastern Time on Wednesday, July 5, 2006.

Take notice that the Commission received the following foreign utility company status filings:

Docket Numbers: FC06-8-000.

Applicants: Babcock & Brown Infrastructure Limited; BBI Energy Partnership Pty Limited; BBI Networks (Australia) Pty Limited; BBI IEG Australia Holdings Pty Limited.

Description: Babcock & Brown Infrastructure Limited submits it's notification of self certification of foreign utility company status pursuant to PUHCA 2005.

Filed Date: 6/13/2006.

Accession Number: 20060613-5030.

Comment Date: 5 p.m. Eastern Time on Wednesday, July 5, 2006.

Docket Numbers: FC06-9-000.

Applicants: SUEZ S.A.

Description: SUEZ S.A. on behalf its direct and indirect subsidiaries submit its self-certification of Foreign Utility Company Status, pursuant to PUHCA 2005.

Filed Date: 6/14/2006.

Accession Number: 20060614-5009.

Comment Date: 5 p.m. Eastern Time on Wednesday, July 5, 2006.

Docket Numbers: FC06-10-000.

Applicants: FortisOntario, Inc.; Newfoundland Power Inc.; Maritime Electric Company, Limited; FortisAlberta Inc.; FortisBC Inc.; Belize Electricity Limited; Caribbean Utilities Company, Ltd.; Princeton Light and Power Company, Limited.

Description: FortisOntario submits a notice of self-certification foreign utility company pursuant to PUHCA 2005.

Filed Date: 6/14/2006.

Accession Number: 20060614-5025.

Comment Date: 5 p.m. Eastern Time on Wednesday, July 5, 2006.

Docket Numbers: FC06-11-000.

Applicants: Prisma Energy Nicaragua Holdings Ltd.

Description: Prisma Energy International Inc., on behalf of Prisma Energy Nicaragua Holdings Ltd., et al., submits its application for Self-Certification of Foreign Utility Company Status of PUHCA 2005.

Filed Date: 6/15/2006.

Accession Number: 20060614-5092.

Comment Date: 5 p.m. Eastern Time on Thursday, July 6, 2006.

Take notice that the Commission received the following public utility holding company filings:

Docket Numbers: PH06-75-000.

Applicants: TECO Energy, Inc.

Description: TECO Energy, Inc. submits a Waiver of Notification of the sections 366.21, et al. of the PUHCA 2005.

Filed Date: 6/13/2006.

Accession Number: 20060613-5019.

Comment Date: 5 p.m. Eastern Time on Wednesday, July 5, 2006.

Docket Numbers: PH06-76-000.

Applicants: FPL Group, Inc.

Description: FPL Group, Inc. submits a petition for waiver of sections 366.21, 366.22, & 366.23 of PUHCA 2005.

Filed Date: 6/14/2006.

Accession Number: 20060614-5003.

Comment Date: 5 p.m. Eastern Time on Wednesday, July 5, 2006.

Docket Numbers: PH06-78-000.

Applicants: Phelps Dodge Corporation.

Description: Phelps Dodge Corporation submits an Exemption Notification or, in the alternative, Waiver Notification of pursuant to sections 366.3(b)(2)(ii) or 366.4(b)(1) of PUHCA 2005.

Filed Date: 6/14/2006.

Accession Number: 20060614-5033.

Comment Date: 5 p.m. Eastern Time on Wednesday, July 5, 2006.

Docket Numbers: PH06-79-000.

Applicants: The Stanley Works.

Description: The Stanley Works submits its Waiver Notification of reporting requirements of PUHCA of 2005.

Filed Date: 6/14/2006.

Accession Number: 20060614-5050.

Comment Date: 5 p.m. Eastern Time on Wednesday, July 5, 2006.

Docket Numbers: PH06-80-000.

Applicants: Sierra Pacific Resources.

Description: Sierra Pacific Resources submits its Waiver Notification of requirements of section 366.21, et al. of PUHCA of 2005.

Filed Date: 6/15/2006.

Accession Number: 20060614-5086.

Comment Date: 5 p.m. Eastern Time on Thursday, July 6, 2006.

Docket Numbers: PH06-81-000.

Applicants: UnionBanCal Corporation.

Description: UnionBanCal Corp. submits its Exemption Notification of section 366(b)(2)(i) of PUHCA of 2005.

Filed Date: 6/15/2006.

Accession Number: 20060615-5011.

Comment Date: 5 p.m. Eastern Time on Thursday, July 6, 2006.

Docket Numbers: PH06-82-000.

Applicants: UnionBanCal Equities, Inc.

Description: UnionBanCal Equities, Inc. submits an Exemption Notification of sections 366.1 and 366.4.

Filed Date: 6/15/2006.

Accession Number: 20060615-5012.

Comment Date: 5 p.m. Eastern Time on Thursday, July 6, 2006.

Docket Numbers: PH06-83-000.

Applicants: Bankers Commercial Corporation.

Description: Bankers Commercial Corp. submits its Exemption Notification of section 366.(b)(2)(1) of PUHCA 2005.

Filed Date: 6/15/2006.

Accession Number: 20060615-5013.

Comment Date: 5 p.m. Eastern Time on Thursday, July 6, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-9798 Filed 6-21-06; 8:45 am]

BILLING CODE 6717-01-P